DEPARTMENT OF TRANSPORTATION

National Highway Traffic Safety Administration

[Docket No. NHTSA-2017-0023; Notice 1]

Porsche Cars North America, Inc., Receipt of Petition for Decision of Inconsequential Noncompliance

AGENCY: National Highway Traffic Safety Administration (NHTSA), Department of Transportation (DOT).

ACTION: Receipt of petition.

SUMMARY: Porsche Cars North America, Inc. (PCNA), on behalf of Dr. Ing. h.c.F. Porsche AG (PAG), has determined that certain model year (MY) 2017 Porsche 911 Turbo and Porsche 911 Turbo Cabriolet motor vehicles do not fully comply with Federal Motor Vehicle Safety Standard (FMVSS) No. 101, Controls and Displays, and FMVSS No. 135, Light Vehicle Brake Systems. PCNA filed a noncompliance report dated March 16, 2017. PCNA also petitioned NHTSA on March 17, 2017, for a decision that the subject noncompliance is inconsequential as it relates to motor vehicle safety.

DATES: The closing date for comments on the petition is May 11, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION: I. Overview: Porsche Cars North America, Inc. (PCNA), on behalf of Dr. Ing. h.c.F. Porsche AG (PAG), has determined that certain model year (MY) 2017 Porsche 911 Turbo and Porsche 911 Turbo Cabriolet motor vehicles do not fully comply with paragraph S5.2.1 of FMVSS No. 101, Controls and Displays, and paragraph S5.5.5 of FMVSS No. 135, Light Vehicle Brake Systems. PCNA filed a noncompliance report dated March 16, 2017, pursuant to 49 CFR part 573, Defect and Noncompliance Responsibility and Reports. PCNA also petitioned NHTSA on March 17, 2017, pursuant to 49 U.S.C. 30118(d) and 30120(h) and 49 CFR part 556, for an exemption from the notification and remedy requirements of 49 U.S.C. Chapter 301 on the basis that this noncompliance is inconsequential as it relates to motor vehicle safety.

This notice of receipt of PCNA's petition is published under 49 U.S.C. 30118 and 30120 and does not represent any agency decision or other exercise of judgment concerning the merits of the petition.

II. Vehicles Involved: Approximately 17 MY 2017 Porsche 911 Turbo and Porsche 911 Turbo Cabriolet motor vehicles, manufactured between May 31, 2016, and January 11, 2017, are potentially involved.

III. Noncompliance: PCNA explains that the noncompliance is that the telltales used for Brake Warning, Park Brake Warning and Antilock Braking System (ABS) failure warnings are displayed using International Organization for Standardization (ISO) symbols instead of the words “Brake” and “ABS” as required by paragraph S5.2.1 of FMVSS No. 101 and paragraph S5.5.5 of FMVSS No. 135.

IV. Rule Text: Paragraph S5.2.1 of FMVSS No. 101 requires in pertinent part:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2 . . .

Paragraphs S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (1/8 inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake .”. . .

(d) If separate indicators are used for one or more of the conditions described in S5.5.1(a) through S5.5.1(g), the indicators shall display the following wording: . . .

(3) If a separate indicator is provided for the condition specified in S5.5.1(b), the letters and background shall be of contrasting colors, one of which is yellow. The indicator shall be labeled with the words “Antilock” or “Anti-lock” or “ABS”; or “Brake Proportioning,” in accordance with Table 2 of Standard No. 101 . . .

V. Summary of PCNA's Petition: PCNA described the subject noncompliance and stated its belief that the noncompliance is inconsequential as it relates to motor vehicle safety.

In support of its petition, PCNA submitted the following reasoning:

(a) The Owner's Manual for the subject vehicles is written for multiple markets and depicts both the “BRAKE” and ISO symbols telltales for brake warning, as well as the “ABS” and ISO symbol telltales for ABS lamp.

(b) The ISO symbol for ABS lamp also contains the word “ABS”, which is additionally embedded in a circle with two vertical lines. In case of an illumination of the ISO symbol, the malfunction display, located in the instrument cluster, will display an additional warning message that states “ABS/PSM failure. Drive with caution” and an initial warning chime will sound. Porsche believes that in the event the ISO ABS telltale is displayed, the driver would recognize a possible ABS malfunction.

(c) In the event the brake fluid level in the master cylinder reservoir is less than the recommended safe level, the ISO symbol will illuminate, and the multifunction display will display a warning message that states “Brake fluid level. Park vehicle safely” and an initial warning chime will sound. The message will stay continuously displayed, provided there are no other serious message(s), which would result in the messages being displayed in an alternating manner. If the brake fluid is still low on subsequent ignition key cycles the message will be redisplayed in the message center.

(d) The parking brake in the subject vehicles are set by pushing a button labelled “P”, which is located on the left hand side of the steering wheel. Once the parking brake is set, a red light indicator located in the button will illuminate. Thus the application of the parking brake is in full view of the operator. When the parking brake is engaged it illuminates the ISO symbol and should the operator proceed with the parking brake engaged, the parking brake releases automatically if the following prerequisites are fulfilled:

1. Engine is running;

2. Driver's door is closed;

3. Driver's seat belt is fastened.

If one of these prerequisites is not fulfilled, the electric parking brake is not automatically released when the operator attempts to drive off. A message appears on the multifunction display, and the red light indicator in the button as well as the ISO symbol for the brake will flash.

(e) In all cases the ISO symbols for the brake and ABS telltale illuminate and remain illuminated in accordance with the requirements of FMVSS No. 135.

(f) Porsche is unaware of any field or owner complaints regarding the issue of non-compliant telltales.

PCNA concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that PCNA no longer controlled at the time it determined that the noncompliance existed. However, any decision on this petition does not relieve vehicle distributors and dealers of the prohibitions on the sale, offer for sale, or introduction or delivery for introduction into interstate commerce of the noncompliant vehicles under their control after PCNA notified them that the subject noncompliance existed.

Authority: (49 U.S.C. 30118, 30120: delegations of authority at 49 CFR 1.95 and 501.8)

Jeffrey M. Giuseppe,
Director, Office of Vehicle Safety Compliance.

[FR Doc. 2017-07165 Filed 4-10-17; 8:45 am]

BILLING CODE 4910-59-P